DEPARTMENT OF AGRICULTURE

Natural Resources Conservation Service

Rehabilitation of Floodwater Retarding Structure No. 8 of the Poteau River Watershed, Scott County, AR

AGENCY: Natural Resources Conservation Service, USDA.

ACTION: Notice of a Finding of No Significant Impact.

SUMMARY: Pursuant to Section 102(2)(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for the rehabilitation of Floodwater Retarding Structure No. 8 of the Poteau River Watershed, Scott County, Arkansas.

FOR FURTHER INFORMATION CONTACT: Kalven L. Trice, State Conservationist, Natural Resources Conservation Service, Rm. 3416 Federal Building, 700 West Capital Avenue, Little Rock, AR 72201-3225; Telephone (501) 301-3100.

SUPPLEMENTARY INFORMATION: The environmental assessment of this federally assisted action indicates the project will not cause significant local, regional, or national impacts on the environment. As a result of these findings, Kalven L. Trice, State Conservationist, has determined that preparation and review of an environmental impact statement is not needed for this project.

The project will rehabilitate Floodwater Retarding Structure (FWRS) No. 8 to maintain the present level of flood control benefits and comply with the current dam safety and performance standards.

Rehabilitation of FWRS No. 8 will require the dam to be modified to meet current performance and safety standards for a high hazard dam. The modification will consist of widening the auxiliary spillway from 150 to 225 feet, and raising the top of dam from elevation 707.5 to elevation 708.5 to safely pass the probable maximum flood. All disturbed areas will be planted with plants that have wildlife values. The proposed work will not affect any prime farmland, endangered or threatened species, wetlands, or cultural resources.

Federal assistance will be provided under authority of the Small Watershed Rehabilitation Amendments of 2000 (Section 313, Pub. L. 106-472). Total project cost is estimated to be $364,000, of which $265,600 will be paid from the Small Watershed Rehabilitation funds and $99,000 from local funds.

The notice of a Finding of No Significant Impact (FONSI) has been forwarded to the Environmental Protection Agency and to various Federal, State, and local agencies and interested parties. A limited number of copies of the FONSI are available to fill single copy requests at the above address. Basic data developed during the environmental assessment are on file and may be reviewed by contacting Kalven L. Trice, State Conservationist.

No administrative action on implementation of the proposal will be taken until 30 days after the date of this publication in the Federal Register.

Dated: December 21, 2006.
Kalven L. Trice,
State Conservationist.

[FR Doc. E6-22500 Filed 12-29-06; 8:45 am]

BILLING CODE 3410-16-P